DEPARTMENT OF TRANSPORTATION

Federal Aviation Administration

14 CFR Part 39

[Docket No. FAA-2012-0962; Directorate Identifier 2012-CE-033-AD]

RIN 2120-AA64

Airworthiness Directives; Cessna Aircraft Company Airplanes

AGENCY: Federal Aviation Administration (FAA), DOT.

ACTION: Notice of proposed rulemaking (NPRM).

SUMMARY: We propose to adopt a new airworthiness directive (AD) for certain Cessna Aircraft Company Models 172RG, R182, TR182, FR182, 210N, T210N, 210R, T210R, P210N, P210R, and T303 airplanes. This proposed AD was prompted by a report of a cockpit fire that appeared to originate from the area of the landing gear's hydraulic power pack system. This proposed AD would require you inspect the aircraft's hydraulic power pack wiring for incorrect installation, and if needed, correct the installation. We are proposing this AD to correct the unsafe condition on these products.

DATES: We must receive comments on this proposed AD by October 26, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Cessna Aircraft Company, Customer Service, P.O. Box 7706, Wichita, KS 67277; telephone: (316) 517-5800; fax: (316) 517-7271; Internet: http://www.cessna.com/customer-service/technical-publications.html. You may review copies of the referenced service information at the FAA, Small Airplane Directorate, 901 Locust, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Richard Rejniak, Aerospace Engineer, Wichita Aircraft Certification Office, 1801 Airport Road, Room 100, Wichita, Kansas 67209; phone: (316) 946-4128; fax: (316) 946-4107; email: richard.rejniak@faa.gov.

SUPPLEMENTARY INFORMATION:

Comments Invited

We invite you to send any written relevant data, views, or arguments about this proposal. Send your comments to an address listed under the ADDRESSES section. Include “Docket No. FAA-2012-0962; Directorate Identifier 2012-CE-033-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of an accident of a Cessna Aircraft Company Model 172RG airplane where a fire started in-flight on the cabin side of the firewall and rapidly accelerated. The fire originated from the area of the landing gear's hydraulic power pack system and resulted in a complete hull loss with reported injuries.

The investigation concluded that an in-flight fire may result from improper installation of the terminal lugs, improper installation of (or missing) terminal covers and associated wiring to the landing gear hydraulic power pack motor wiring, which was not properly protected or adequately secured. The cause for the rapid acceleration of the fire was indicative of the presence of flammable materials or a flammable material source near or in contact with the hydraulic power pack system within the aircraft's cockpit/cabin.

This style of hydraulic power pack is also used on Cessna Aircraft Company Models R182, TR182, FR182, 210N, T210N, 210R, T210R, P210N, P210R, and T303 airplanes.

This condition, if not corrected, could result in a fire in the aircraft's cockpit, damage and or loss of aircraft, and injuries and or fatalities.

Relevant Service Information

We reviewed Cessna Aircraft Company Service Letter MEL-29-01, dated July 14, 2012; and Service Letter SEL-29-01, dated July 16, 2012. The service information describes procedures for inspection of the aircraft's hydraulic power pack system for proper wire routing, protective cover, and hydraulic leaks, and if needed, installation of a protective cover and rerouting of wiring.

FAA's Determination

We are proposing this AD because we evaluated all the relevant information and determined the unsafe condition described previously is likely to exist or develop in other products of these same type designs.

Proposed AD Requirements

This proposed AD would require accomplishing the actions specified in the service information described previously.

Costs of Compliance

We estimate that this proposed AD affects 2,961 airplanes of U.S. registry.

We estimate the following costs to comply with this proposed AD:

Estimated Costs
Action | Labor cost | Parts cost | Cost per product | Cost on U.S. operators
Hydraulic power pack system wiring inspection | 1 work-hour × $85 per hour = $85 | Not applicable | $85 | $251,685

We estimate the following costs to do any necessary hydraulic power pack terminal lug protective cap installation that would be required based on the results of the proposed inspection. We have no way of determining the number of aircraft that might need this installation:

On-Condition Costs
Action | Labor cost | Parts cost | Cost per product
Hydraulic power pack system wiring installation | 1 work-hour × $85 per hour = $85 | $29 | $114

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2012-0962+; Directorate Identifier 2012-CE-033-AD.

(a) Comments Due Date

We must receive comments by October 26, 2012.

(b) Affected ADs

None.

(c) Applicability

This AD applies to the following Cessna Aircraft Company airplanes, certificated in any category, as identified in table 1, paragraph (c), of this AD:

Table 1 to Paragraph (c) of This AD—Applicability
Model | Serial Nos.
(1) 172RG | 172RG000l through 172RG1191.
(2) R182 and TR182 | R18200584 through Rl8202039.
(3) FR182 | FR18200021 through FR18200070.
(4) 210N, T210N, 210R, and T210R | 21062955 through 21065009.
(5) P210N | P21000151 through P21000834.
(6) P210R | P21000835 through P21000874.
(7) T303 | T30300001 through T30300315.

(d) Subject

Joint Aircraft System Component (JASC)/Air Transport Association (ATA) of America Code 32, Landing Gear.

(e) Unsafe Condition

This AD was prompted by a report of a cockpit fire that appeared to originate from the area of the landing gear's hydraulic power pack system. We are issuing this AD to correct the unsafe condition on these products.

(f) Compliance

Comply with this AD within the compliance times specified, unless already done.

(g) Inspect the Hydraulic Power Pack Wiring for Correct Installation

(1) Single engine aircraft: Within the next 100 hours time-in-service (TIS) after the effective date of this AD or within the next 12 calendar months after the effective date of this AD, whichever occurs first, inspect the hydraulic power pack wiring for correct installation. Follow Cessna Aircraft Company Service Letter SEL-29-01, dated July 16, 2012.

(2) Multi-engine aircraft: Within the next 100 hours TIS after the effective date of this AD or within the next 12 calendar months after the effective date of this AD, whichever occurs first, inspect the hydraulic power pack wiring for correct installation. Follow Cessna Aircraft Company Service Letter MEL-29-01, dated July 14, 2012.

(h) Correct the Installation of the Hydraulic Power Pack Wiring

(1) Single engine aircraft: If you find evidence of incorrect installation of the hydraulic power pack wiring as a result of the inspection required by paragraph (g)(1) of this AD, before further flight, correct the installation. Follow Cessna Aircraft Company Service Letter SEL-29-01, dated July 16, 2012.

(2) Multi-engine aircraft: If you find evidence of incorrect installation of the hydraulic power pack wiring as a result of the inspection required by paragraph (g)(2) of this AD, before further flight, correct the installation. Follow Cessna Aircraft Company Service Letter MEL-29-01, dated July 14, 2012.

(i) Special Flight Permit

Special flight permits are permitted with the following limitation: visual flight rules (VFR) day conditions.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, contact Richard Rejniak, Aerospace Engineer, Wichita ACO, 1801 Airport Road, Room 100, Wichita, Kansas 67209; phone: (316) 946-4128; fax: (316) 946-4107; email: richard.rejniak@faa.gov.

(2) For service information identified in this AD, contact Cessna Aircraft Company, Customer service, P.O. Box 7706, Wichita, KS 67277; telephone: (316) 517-5800; fax: (316) 517-7271; Internet: http://www.cessnasupport.com/customer-service/technical-publications.html. You may review copies of the referenced service information at the FAA, Small Airplane Directorate, 901 Locust, Kansas City, MO 64106. For information on the availability of this material at the FAA, call (816) 329-4148.

Issued in Kansas City, Missouri, on September 5, 2012.
Earl Lawrence,
Manager, Small Airplane Directorate, Aircraft Certification Service.

[FR Doc. 2012-22332 Filed 9-10-12; 8:45 am]

BILLING CODE 4910-13-P